DEPARTMENT OF ENERGY

Federal Energy Regulatory Commission

[Project No. 4334-017]

EONY Generation Limited; Notice of Intent To Prepare an Environmental Assessment

On January 28, 2021, EONY Generation Limited (EONY) filed an application for a new major license for the 3.645-megawatt Philadelphia Hydroelectric Project (Philadelphia Project; FERC No. 4334). The Philadelphia Project is located on the Indian River, in the Village of Philadelphia in Jefferson County, New York. The project does not occupy federal land.

In accordance with the Commission's regulations, on July 21, 2022, Commission staff issued a notice that the project was ready for environmental analysis (REA Notice). Based on the information in the record, including comments filed on the REA Notice, staff does not anticipate that licensing the project would constitute a major federal action significantly affecting the quality of the human environment. Therefore, staff intends to prepare an Environmental Assessment (EA) on the application to relicense the Philadelphia Project.

The EA will be issued and circulated for review by all interested parties. All comments filed on the EA will be analyzed by staff and considered in the Commission's final licensing decision.

The application will be processed according to the following schedule. Revisions to the schedule may be made as appropriate.

Milestone | Target date
Commission issues EA | April 2023.¹
Comments on EA | May 2023.

Any questions regarding this notice may be directed to Emily Carter at (202) 502-6512 or emily.carter@ferc.gov.

¹ The Council on Environmental Quality's (CEQ) regulations under 40 CFR 1501.10(b)(1) require that EAs be completed within 1 year of the federal action agency's decision to prepare an EA. This notice establishes the Commission's intent to prepare an EA for the Philadelphia Project. Therefore, in accordance with CEQ's regulations, the EA must be issued within 1 year of the issuance date of this notice.

Dated: October 28, 2022.
Debbie-Anne A. Reese,
Deputy Secretary.

[FR Doc. 2022-23942 Filed 11-2-22; 8:45 am]

BILLING CODE 6717-01-P